DEPARTMENT OF COMMERCE

International Trade Administration

Notice of Allocation of Increased Tariff Rate Quotas on the Import of Certain Worsted Wool Fabrics for Calendar Year 2005

June 28, 2005.

AGENCY: Department of Commerce, International Trade Administration.

ACTION: Notice of allocation of 2005 increase in worsted wool fabric tariff rate quota.

SUMMARY: The Department of Commerce has completed the allocation of the increase in the 2005 worsted wool fabric tariff rate quota (TRQ) mandated by the “Wool Suit and Textile Trade Extension Act of 2004” (included in the Miscellaneous Trade and Technical Corrections Act of 2004, H.R. 1047). These actions were taken in accordance with Department of Commerce regulations (15 CFR 335) (70 FR 25774).

The increases in the 2005 TRQs are: 1 million square meters for Harmonized Tariff Schedule (HTS) 9902.51.11 to an annual total level of 5.5 million square meters (worsted wool fabrics with average fiber diameters greater than 18.5 microns) and 1.5 million square meters for HTS 9902.51.15 to an annual total level of 5 million square meters (worsted wool fabrics with average fiber diameters of 18.5 microns or less).

FOR FURTHER INFORMATION CONTACT: Sergio Botero, Office of Textiles and Apparel, U.S. Department of Commerce, (202) 482-4058.

SUPPLEMENTARY INFORMATION:

Background:

Title V of the Trade and Development Act of 2000 (The Act) as amended by the Trade Act of 2002 and the Miscellaneous Trade and Technical Corrections Act of 2004, H.R. 1047 creates two tariff rate quotas, providing for temporary reductions in the import duties on two categories of worsted wool fabrics suitable for use in making suits or suit-type jackets or trousers. The “Wool Suit and Textile Trade Extension Act of 2004” (included in the Miscellaneous Trade and Technical Corrections Act of 2004, H.R. 1047) increases in the 2005 TRQs by 1 million square meters for Harmonized Tariff Schedule (HTS) 9902.51.11 to an annual total level of 5.5 million square meters (worsted wool fabrics with average fiber diameters greater than 18.5 microns) and 1.5 million square meters for HTS 9902.51.15 to an annual total level of 5 million square meters (worsted wool fabrics with average fiber diameters of 18.5 microns or less).

The Act requires the President to ensure that such fabrics are fairly allocated to persons (including firms, corporations, or other legal entities) who cut and sew men's and boys' worsted wool suits and suit-like jackets and trousers in the United States and who apply for an allocation based on the amount of such suits cut and sewn during the prior calendar year. Presidential Proclamation 7383, of December 1, 2000, authorized the Secretary of Commerce to allocate the quantity of worsted wool fabric imports under the TRQs.

On December 14, 2004, the Department published a notice of the initial allocation for Calendar Year 2005 of TRQs based on applications received for HTS 9902.51.11 TRQ from 11 firms, and for HTS 9902.51.15 TRQ from 14 firms (69 FR 74500). All applicants were determined eligible for an allocation. Most applicants submitted data on a business confidential basis. On June 8, 2005, the Department allocated the increases for the 2005 worsted wool fabric TRQ mandated by the “Wool Suit and Textile Trade Extension Act of 2004” based on the same data received on the applications for the initial allocation 2005 TRQs. As allocations to firms were determined on the basis of this data, the Department considers individual firm allocations to be business confidential.

Firms That Received Additional Allocations:

HTS 9902.51.11, fabrics, of worsted wool, with average fiber diameter greater than 18.5 micron, certified by the importer as suitable for use in making suits, suit-type jackets, or trousers (provided for in subheading 5112.11.60 and 5112.19.95). Amount allocated: 1,000,000 square meters.

Companies Receiving Allocation:
Hartmarx Corporation--Chicago, IL
Hartz & Company, Inc.--Frederick, MD
Hugo Boss Cleveland, Inc-Brooklyn, OH
JA Apparel Corp.--New York, NY
John H. Daniel Co.--Knoxville, TN
Majer Brands Company, Inc.-Hanover, PA
Saint Laurie Ltd--New York, NY
Sewell Clothing Company, Inc.--Bremen, GA
Southwick Clothing L.L.C.--Lawrence, MA
Toluca Garment Company-Toluca, IL
The Tom James Co.--Franklin, TN

HTS 9902.51.15, fabrics, of worsted wool, with average fiber diameter of 18.5 micron or less, certified by the importer as suitable for use in making suits, suit-type jackets, or trousers (provided for in subheading 5112.11.30 and 5112.19.60). Amount allocated: 1,500,000 square meters.

Companies Receiving Allocation:
Elevee Custom Clothing-Van Nuys, CA
Retail Brand Alliance, Inc. d/b/a Brooks Brothers--New York, NY
Hartmarx Corporation--Chicago, IL>
Hartz & Company, Inc.--Frederick, MD
Hugo Boss Cleveland, Inc.-Brooklyn, OH
JA Apparel Corp.--New York, NY
John H. Daniel Co.--Knoxville, TN
Majer Brands Company, Inc.-Hanover, PA
Martin Greenfield--Brooklyn, NY
Saint Laurie Ltd--New York, NY
Sewell Clothing Company, Inc.--Bremen, GA
Southwick Clothing L.L.C.--Lawrence, MA
Toluca Garment Compan-Toluca, IL
The Tom James Co.--Franklin, TN

Dated: June 28, 2005.
James C. Leonard III,
Deputy Assistant Secretary for Textiles and Apparel.

[FR Doc.E5-3489 Filed 7-1-05; 8:45 am]

BILLING CODE 3510-DS-S